NATIONAL AERONAUTICS AND SPACE ADMINISTRATION

[Notice: 13-042]

NASA Advisory Council; Human Exploration and Operations Committee; Research Subcommittee; Meeting

AGENCY: National Aeronautics and Space Administration.

ACTION: Notice of meeting.

SUMMARY: In accordance with the Federal Advisory Committee Act, Public Law 92-462, as amended, the National Aeronautics and Space Administration (NASA) announces a meeting of the Research Subcommittee of the Human Exploration and Operations Committee (HEOC) of the NASA Advisory Council (NAC). This Subcommittee reports to the HEOC. The meeting will be held for the purpose of organizing the activities of the Subcommittee and fact-finding with respect to the research activities within the Human Exploration and Operations Mission Directorate.

DATES: 10:00 a.m.-1:00 p.m., April 17, 2013, Local Time.

FOR FURTHER INFORMATION CONTACT: Dr. Bradley Carpenter, Human Exploration and Operations Mission Directorate, NASA Headquarters, Washington, DC 20546, (202) 358-0826, or bcarpenter@nasa.gov, Human Exploration and Operations Mission Directorate, NASA Headquarters, Washington, DC 20546.

SUPPLEMENTARY INFORMATION: This meeting will be held telephonically and by WebEx. Any interested person may call the USA toll free conference call number 866-784-1921, passcode 8715266 or toll number 203-310-8326, to participate in this meeting by telephone. The WebEx link is https://nasa.webex.com/, the meeting number is 997 730 108, and the passcode is @pril172013.

Publication with less than 15 calendar day notice due to sequestration requirements.

The agenda for the meeting includes the following topics:

—Overview of Research in Space Life and Physical Sciences

—Space Station and Future Exploration Missions

—Discussion on Priorities and Tasking for the Subcommittee

It is imperative that the meeting be held on these dates to accommodate the scheduling priorities of the key participants.

Patricia D. Rausch,
Advisory Committee Management Officer, National Aeronautics and Space Administration.

[FR Doc. 2013-07995 Filed 4-4-13; 8:45 am]

BILLING CODE 7510-13-P